DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (301) 443-7978.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Customer Satisfaction Surveys Among Recipients of CSAT Knowledge Application Program Products and Services—The Center for Substance Abuse Treatment (CSAT) in the Substance Abuse and Mental Health Services Administration is proposing a series of customer satisfaction surveys in support of objectives identified in its Government Performance and Results Act Strategic Plan. These surveys will measure the satisfaction of substance abuse services professionals with products and services that are part of CSAT's Knowledge Application programs. These programs provide training, technical assistance, and information products to promote the use of the best treatment strategies among substance abuse treatment professionals. Information products may also be distributed to other persons who are involved in substance abuse treatment.

Trainees include over 12,000 addictions treatment and public health/mental health personnel. Technical assistance is provided to state substance abuse agencies, academic institutions, community-based organizations and managed-care organizations.

Information products include pamphlets, newsletters, and fact sheets. These products may be sent on request or may be distributed on a periodic basis.

The proposed survey efforts are primarily focused on measuring the satisfaction of the various professionals receiving these products and services, as well as determining related outcomes such as sharing or using the knowledge. Substance abuse treatment professionals receiving training or participating in technical assistance events that are at least a half day in length will receive a brief survey to assess expectations for the event and satisfaction with the outcomes. Participants will also be given an opportunity to complete a follow-up form at an appropriate interval after the session. This follow-up will again assess satisfaction with the training or technical assistance and will also ask two questions concerning the impact of the information in terms of sharing it with other appropriate professionals and using it in its appropriate manner. All qualifying training and technical assistance will target the complete attending population for the event survey. For technical assistance that includes grantee meetings only the follow-up survey will be distributed. For large events the follow-up survey may be administered to a sample of participants. For information products, requested information will include a feedback card to be returned once the product has been received and examined. For information products routinely sent to a subscription list, a sample will be drawn and a feedback form distributed to that sample. The list approach will be used on major information products only.

Annual burden estimates are contained in the following table. Numbers are approximate and represent maximums.

Type of product or service | Estimated maximum number of respondents | Average burden/response (hours) | Responses per respondent | Estimated annual burden (hours)
Training:
at the event | 12,000 | .167 | 1 | 2,004
followup | 6,000 | .167 | 1 | 1,002
Technical assistance attendees:
at the event | 2,000 | .167 | 1 | 334
followup | 1,000 | .167 | 1 | 167
Grantees (meetings) | 200 | .167 | 1 | 334
Requested information products | 5,000 | .167 | 1 | 835
Subscription/list based products | 5,000 | .167 | 1 | 835
Total | 24,200 |  |  | 5,511

Send comments to Nancy Pearce, SAMHSA Reports Clearance Officer, Room 16-105, Parklawn Building, 5600 Fishers Lane, Rockville, MD 20857. Written comments should be received within 60 days of this notice.

Dated: July 21, 2000
Richard Kopanda,
Executive Officer, SAMHSA.

[FR Doc. 00-19467 Filed 8-1-00; 8:45 am]

BILLING CODE 4162-20-P